DEPARTMENT OF THE INTERIOR

Bureau of Ocean Energy Management

[Docket No. BOEM-2012-0074]

Interim Policy Leasing for Renewable Energy Data Collection Facility on the Outer Continental Shelf off the Coast of Georgia

AGENCY: Bureau of Ocean Energy Management (BOEM), Interior.

ACTION: Notice of Intent to Prepare an Environmental Assessment.

SUMMARY: This Notice of Intent (NOI) to prepare an Environmental Assessment (EA) is being published as an initial step for the purpose of involving Federal agencies, states, tribes, local governments, and the public in the preparation of an EA. The EA will consider the environmental consequences associated with issuing a lease for an offshore data collection facility located on the Outer Continental Shelf (OCS), in accordance with applicable Department of the Interior (DOI) and Council on Environmental Quality (CEQ) regulations implementing the provisions of the National Environmental Policy Act (NEPA) of 1969 as amended (42 U.S.C. 4321 et seq.).

On November 6, 2007, the Minerals Management Service, now BOEM, announced an interim policy for authorizing the issuance of leases for the installation of offshore data collection and technology testing facilities on the OCS (72 FR 62673). An applicant has submitted a lease proposal to BOEM pursuant to the interim policy and, thus, has initiated the need for an EA.

On April 7, 2011, Southern Company submitted an application to lease three OCS blocks, approximately 3—11 nautical miles off the coast of Tybee Island, Georgia, under its original nomination submitted on July 23, 2008. The areas proposed for leasing are identified as Brunswick NH 17-02 OCS blocks numbered 6074, 6174, and 6126. The proposed lease area covers about 70 square kilometers (17,280 acres) of seafloor, and ranges from a depth of 12 meters (m) in Block 6074 to 20 m in the eastern half of Block 6126. Southern Company submitted amended project applications on May 18, 2012, and October 25, 2012, which describe additional data collection and technology testing activities to be conducted on the proposed lease. Southern Company intends to deploy a meteorological tower and/or a meteorological buoy that will measure wind speed, direction and shear, and potentially collect other environmental data during the five year lease term.

BOEM intends to prepare an EA for the purpose of considering the environmental consequences associated with issuing an interim policy lease to Southern Company; this EA will consider impacts associated with the deployment and installation of a meteorological tower and/or the deployment of a meteorological buoy. At a minimum, the EA will consider the alternatives of no action (i.e., no issuance of a lease) and the issuance of a lease and approval of certain technology testing activities within the lease area, such as installation of a fixed meteorological tower and/or deployment of a meteorological buoy.

With this NOI, BOEM requests comments and input from Federal, state, and local government agencies, tribal governments, and other interested parties on important environmental issues and alternatives that may be appropriate for consideration in the EA. BOEM also requests information pertaining to measures (e.g., limitations on activities based on technology, siting, or timing) that would minimize the reasonably foreseeable impacts to environmental resources and socioeconomic conditions which could result from the proposed activity. BOEM will conduct consultations with other Federal agencies, tribal governments, and affected states during the EA process.

Authority: BOEM publishes this NOI to prepare an EA pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION:

1. Interim Policy

Subsection 8(p) of the OCS Lands Act (43 U.S.C. 1337(p)), which was added by section 388 of the Energy Policy Act of 2005 (EPAct), gave the Secretary of the Interior the authority to issue leases, easements and rights-of-way on the OCS for alternative energy activities. The Secretary delegated this authority to BOEM. In a Request for Information and Nominations published on November 6, 2007, in the Federal Register (72 FR 62673), BOEM announced that it had established an interim policy under which it would issue limited leases authorizing renewable energy resource assessment, data collection, and technology testing activities on the OCS and that it was accepting nominations for limited leases to conduct such activities. Leases issued under the interim policy have a term of five years, and do not authorize the production or transmission of energy. In response to the November 6, 2007 notice, BOEM received more than 40 nominations proposing areas for interim policy leases on the OCS off the Pacific and Atlantic Coasts.

BOEM reviewed in detail all nominations received and, on April 18, 2008, identified 16 proposed lease areas for consideration based on factors such as the technological complexity of the proposed project, timing needs, competing OCS space-use issues, and relevant state-supported renewable energy activities and initiatives (73 FR 21152). BOEM also took into consideration the importance of supporting the advancement of activities related to the development of each of the renewable energy resource types that would be studied in the proposals—wind, ocean current, and wave. Of the 16 areas, BOEM identified three proposed areas offshore Georgia as suitable areas for renewable energy resource data collection and technology testing.

In the April 18, 2008 notice, BOEM solicited expressions of competitive interest from parties interested in leasing any of these nominated areas. The notice also invited comments and solicited information from the public regarding the suitability of these areas for leasing and the environmental and socioeconomic consequences that may be associated with issuing research leases in these areas.

The terms outlined in the BOEM interim policy lease and stipulations published in the Federal Register (73 FR 21363) on April 21, 2008, govern interim policy leases. More information about the interim policy can be found at the following web address: http://www.boem.gov/Renewable-Energy-Program/Regulatory-Information/Index.aspx#Interim_Policy.

2. Cooperating Agencies

BOEM invites Federal, state, and local government agencies as well as tribal governments to consider becoming cooperating agencies in the preparation of the EA. CEQ regulations implementing the procedural provisions of NEPA define cooperating agencies as those with “jurisdiction by law or special expertise” (40 CFR 1508.5). Potential cooperating agencies should consider their authority and capacity to assume the responsibilities of a cooperating agency and remember that an agency's role in the environmental analysis neither enlarges nor diminishes the final decisionmaking authority of any other agency involved in the NEPA process.

Upon request, BOEM will provide potential cooperating agencies with a draft Memorandum of Agreement that includes a schedule with critical action dates and milestones, mutual responsibilities, designated points of contact, and expectations for handling pre-decisional information. Agencies should also consider the “Factors for Determining Whether To Invite, Decline, or End Cooperating Agency Status” in Attachment 1 of CEQ's January 30, 2002, Memorandum for the Heads of Federal Agencies: Cooperating Agencies in Implementing the Procedural Requirements of the NEPA. Copies of this document are available at the following web addresses: http://ceq.hss.doe.gov/nepa/regs/cooperating/cooperatingagenciesmemorandum.html and http://ceq.hss.doe.gov/nepa/regs/cooperating/cooperatingagencymemofactors.html.

BOEM, as the lead agency, will not provide financial assistance to cooperating agencies. Even if an organization is not a cooperating agency, opportunities will exist to provide information and comments to BOEM during the normal public input phases of the NEPA process.

3. Comments

Federal, state, local government agencies, tribal governments, and other interested parties are requested to send their written comments regarding important environmental issues and the identification of reasonable alternatives related to the proposed issuance of an interim policy lease to Southern Company to conduct data collection and technology testing activities in one of the following ways:

1. Electronically: http://www.regulations.gov. In the entry titled “Enter Keyword or ID,” enter “BOEM-2012-0074,” then click “Search.” Follow the instructions to submit public comments and view supporting and related materials available for this document.

2. In written form, delivered by hand or by mail, enclosed in an envelope labeled “Comments on OCS Renewable Energy Program Interim Policy Lease for Southern Company” to Program Manager, Office of Renewable Energy Programs (HM 1328), Bureau of Ocean Energy Management, 381 Elden Street, Herndon, Virginia 20170.

Comments should be submitted no later than January 14, 2013.

Dated: December 5, 2012.
Tommy P. Beaudreau,
Director, Bureau of Ocean Energy Management.

[FR Doc. 2012-30185 Filed 12-13-12; 8:45 am]

BILLING CODE 4310-MR-P